DEPARTMENT OF HOMELAND SECURITY

Federal Emergency Management Agency

[Docket ID FEMA-2023-0002; Internal Agency Docket No. FEMA-B-2361]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Alabama:
Madison | City of Huntsville (23-04-2057P). | The Honorable Thomas Battle Jr., Mayor, City of Huntsville, 308 Fountain Circle, 8th Floor, Huntsville, AL 35801. | City Hall, 308 Fountain Circle, Huntsville, AL 35801. | https://msc.fema.gov/portal/advanceSearch. | Oct. 5, 2023 | 010153
Colorado:
Gilpin | City of Black Hawk (22-08-0228P). | The Honorable David D. Spellman, Mayor, City of Black Hawk, P.O. Box 68, Black Hawk, CO 80422. | Community Planning and Development Department, 211 Church Street, Black Hawk, CO 80422. | https://msc.fema.gov/portal/advanceSearch. | Sep. 22, 2023 | 080076
Gilpin | City of Central City (22-08-0228P). | The Honorable Jeremy Fey, Mayor, City of Central City, P.O. Box 249, Central City, CO 80427. | City Hall, 141 Nevada Street, Central City, CO 80427. | https://msc.fema.gov/portal/advanceSearch. | Sep. 22, 2023 | 080077
Florida:
Brevard | City of Palm Bay (22-04-2818P). | The Honorable Rob Medina, Mayor, City of Palm Bay, 120 Malabar Road, Palm Bay, FL 32907. | Building Department, 190 Malabar Road Southwest, Suite 105, Palm Bay, FL 32908. | https://msc.fema.gov/portal/advanceSearch. | Oct. 6, 2023 | 120404
Hillsborough | City of Plant City (23-04-2405P). | Bill McDaniel, Manager, City of Plant City, 302 West Reynolds Street, Plant City, FL 33563. | City Hall, 302 West Reynolds Street, Plant City, FL 33563. | https://msc.fema.gov/portal/advanceSearch. | Oct. 26, 2023 | 120113
Hillsborough | City of Tampa (21-04-0665P). | John Bennett, Chief of Staff, City of Tampa, 306 East Jackson Street, Tampa, FL 33602. | Construction Services Department, 1400 North Boulevard, Tampa, FL 33607. | https://msc.fema.gov/portal/advanceSearch. | Oct. 23, 2023 | 120114
Hillsborough | Unincorporated areas of Hillsborough County (21-04-0665P). | Bonnie Wise, Hillsborough County Administrator, 601 East Kennedy Boulevard, 26th Floor, Tampa, FL 33602. | Hillsborough County Center, 601 East Kennedy Boulevard, 22nd Floor, Tampa, FL 33602. | https://msc.fema.gov/portal/advanceSearch. | Oct. 23, 2023 | 120112
Hillsborough | Unincorporated areas of Hillsborough County (23-04-1767P). | Bonnie Wise, Hillsborough County Administrator, 601 East Kennedy Boulevard, 26th Floor, Tampa, FL 33602. | Hillsborough County Center, 601 East Kennedy Boulevard, 22nd Floor, Tampa, FL 33602. | https://msc.fema.gov/portal/advanceSearch. | Oct. 12, 2023 | 120112
Lake | City of Leesburg (22-04-3930P). | Al Minner, Manager, City of Leesburg, P.O. Box 490630, Leesburg, FL 34749. | Public Works Department, 501 West Meadow Street, Leesburg, FL 34748. | https://msc.fema.gov/portal/advanceSearch. | Sep. 25, 2023 | 120136
Lake | Unincorporated areas of Lake County (22-04-3930P). | Jennifer Barker, Lake County Manager, P.O. Box 7800, Tavares, FL 32778. | Lake County Public Works Department, 323 North Sinclair Avenue, Tavares, FL 32778. | https://msc.fema.gov/portal/advanceSearch. | Sep. 25, 2023 | 120421
Manatee | Unincorporated areas of Manatee County (23-04-0814P). | Lee Washington, Manatee County Administrator, 1112 Manatee Avenue West, Bradenton, FL 34205. | Manatee County Administration Building, 1112 Manatee Avenue West, Bradenton, FL 34205. | https://msc.fema.gov/portal/advanceSearch. | Sep. 25, 2023 | 120153
Monroe | Unincorporated areas of Monroe County (23-04-2258P). | The Honorable Craig Cates, Mayor, Monroe County Board of Commissioners, 500 Whitehead Street, Suite 102, Key West, FL 33040. | Monroe County Building Department, 2798 Overseas Highway, Suite 300, Marathon, FL 33050. | https://msc.fema.gov/portal/advanceSearch. | Sep. 11, 2023 | 125129
Orange | Unincorporated areas of Orange County (21-04-3684P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Sep. 22, 2023 | 120179
Palm Beach | Unincorporated areas of Palm Beach County (22-04-3946P). | Verdenia C. Baker, Palm Beach County Administrator, 301 North Olive Avenue, West Palm Beach, FL 33401. | Palm Beach County Building Division, Planning, Zoning and Building Department, 2300 North Jog Road, West Palm Beach, FL 33411. | https://msc.fema.gov/portal/advanceSearch. | Oct. 2, 2023 | 120192
Pinellas | City of Clearwater (23-04-0224P). | The Honorable Brian Aungst, Sr., Mayor, City of Clearwater, 600 Cleveland Street, 6th Floor, Clearwater, FL 33756. | City Hall, 100 South Myrtle Avenue, Clearwater, FL 33756. | https://msc.fema.gov/portal/advanceSearch. | Sep. 28, 2023 | 125096
Polk | Unincorporated areas of Polk County (22-04-4292P). | Bill Beasley, Polk County Manager, 330 West Church Street, Bartow, FL 33831. | Polk County Land Development Division, 330 West Church Street, Bartow, FL 33831. | https://msc.fema.gov/portal/advanceSearch. | Oct. 26, 2023 | 120261
Polk | Unincorporated areas of Polk County (23-04-0252P). | Bill Beasley, Polk County Manager, 330 West Church Street, Bartow, FL 33831. | Polk County Land Development Division, 330 West Church Street, Bartow, FL 33831. | https://msc.fema.gov/portal/advanceSearch. | Oct. 26, 2023 | 120261
Sumter | City of Wildwood (22-04-4208P). | The Honorable Ed Wolf, Mayor, City of Wildwood, 100 North Main Street, Wildwood, FL 34785. | Sumter County Service Center, 7375 Powell Road, Wildwood, FL 34785. | https://msc.fema.gov/portal/advanceSearch. | Sep. 22, 2023 | 120299
Sumter | Unincorporated areas of Sumter County (22-04-4208P). | Bradley Arnold, Sumter County Administrator, 7375 Powell Road, Wildwood, FL 34785. | Sumter County Service Center, 7375 Powell Road, Wildwood, FL 34785. | https://msc.fema.gov/portal/advanceSearch. | Sep. 22, 2023 | 120296
Georgia:
DeKalb | Unincorporated areas of DeKalb County (23-04-0174P). | Michael L Thurmond, Chief Executive Officer, DeKalb County, 1300 Commerce Drive, 6th Floor, Decatur, GA 30030. | DeKalb County Roads and Drainage Department, 727 Camp Road, Decatur, GA 30032. | https://msc.fema.gov/portal/advanceSearch. | Sep. 22, 2023 | 130065
Kentucky:
Boyd | Unincorporated areas of Boyd County (22-04-5324P). | The Honorable Eric Chaney, Judge Executive, Boyd County, 2800 Louisa Street, Catlettsburg, KY 41129. | Boyd County Code Enforcement Department, 2800 Louisa Street, Catlettsburg, KY 41129. | https://msc.fema.gov/portal/advanceSearch. | Oct. 16, 2023 | 210016
Maryland:
Montgomery | Unincorporated areas of Montgomery County (22-03-0958P). | Marc Elrich, Montgomery County Executive, 101 Monroe Street, 2nd Floor, Rockville, MD 20850. | Montgomery County Department of Permitting Services, 2425 Reedie Drive, 7th Floor, Wheaton, MD 20902. | https://msc.fema.gov/portal/advanceSearch. | Sep. 25, 2023 | 240049
New Mexico:
Bernalillo | City of Albuquerque (22-06-2510P). | The Honorable Tim Keller, Mayor, City of Albuquerque, 1 Civic Plaza Northwest, Albuquerque, NM 87102. | City Hall, 1 Civic Plaza Northwest, Albuquerque, NM 87102. | https://msc.fema.gov/portal/advanceSearch. | Oct. 23, 2023 | 350002
Bernalillo | Unincorporated areas of Bernalillo County (22-06-2510P). | Barbara Baca, Chair, Bernalillo County Board of Commissioners, 415 Silver Avenue Southwest, Albuquerque, NM 87102. | Bernalillo County at Alvarado Square, 415 Silver Avenue Southwest, Albuquerque, NM 87102. | https://msc.fema.gov/portal/advanceSearch. | Oct. 23, 2023 | 350001
South Carolina:
Berkeley | Unincorporated areas of Berkeley County (22-04-5274P). | Johnny Cribb, Berkeley County Supervisor, 1003 Highway 52, Moncks Corner, SC 29461. | Berkeley County Planning and Zoning Department, 1003 Highway 52, Moncks Corner, SC 29461. | https://msc.fema.gov/portal/advanceSearch. | Sep. 21, 2023 | 450029
Texas:
Bexar | Unincorporated areas of Bexar County (22-06-2152P). | The Honorable Peter Saki, Bexar County Judge, 101 West Nueva Street, 10th Floor, San Antonio, TX 78205. | Bexar County Public Works Department, 1948 Probandt Street, San Antonio, TX 78205. | https://msc.fema.gov/portal/advanceSearch. | Sep. 25, 2023 | 480035
Collin | City of Wylie (23-06-0077P). | The Honorable Matthew Porter, Mayor, City of Wylie, 300 Country Club Road, Building 100, Wylie, TX 75098. | City Hall, 300 Country Club Road, Building 100, Wylie, TX 75098. | https://msc.fema.gov/portal/advanceSearch. | Oct. 12, 2023 | 480759
Collin | Town of Prosper (22-06-2792P). | The Honorable David F. Bristol, Mayor, Town of Prosper, 250 West 1st Street, Prosper, TX 75078. | Town Hall, 250 West 1st Street, Prosper, TX 75078. | https://msc.fema.gov/portal/advanceSearch. | Sep. 11, 2023 | 480141
Collin | Unincorporated areas of Collin County (23-06-0077P). | The Honorable Chris Hill, Collin County Judge, 2300 Bloomdale Road, Suite 4192, McKinney, TX 75071. | Collin County Engineering Department, 4690 Community Avenue, Suite 200, McKinney, TX 75071. | https://msc.fema.gov/portal/advanceSearch. | Oct. 12, 2023 | 480130
Denton | City of Fort Worth (23-06-0297P). | The Honorable Mattie Parker, Mayor, City of Fort Worth, 200 Texas Street, Fort Worth, TX 76102. | T/PW Engineering Vault, 200 Texas Street, Fort Worth, TX 76102. | https://msc.fema.gov/portal/advanceSearch. | Sep. 25, 2023 | 480596
Ellis | City of Grand Prairie (22-06-2534P). | The Honorable Ron Jensen, Mayor, City of Grand Prairie, P.O. Box 534045, Grand Prairie, TX 75053. | City Hall, 300 West Main Street, Grand Prairie, TX 75050. | https://msc.fema.gov/portal/advanceSearch. | Sep. 14, 2023 | 485472
Ellis | Unincorporated areas of Ellis County (22-06-2111P). | The Honorable Todd Little, Ellis County Judge, 101 West Main Street, Waxahachie, TX 75165. | Ellis County Courts and Administration, 109 South Jackson Street, Waxahachie, TX 75165. | https://msc.fema.gov/portal/advanceSearch. | Oct. 19, 2023 | 480798
Ellis | Unincorporated areas of Ellis County (22-06-2534P). | The Honorable Todd Little, Ellis County Judge, 101 West Main Street, Waxahachie, TX 75165. | Ellis County Courts and Administration, 109 South Jackson Street, Waxahachie, TX 75165. | https://msc.fema.gov/portal/advanceSearch. | Sep. 14, 2023 | 480798
Hays | Unincorporated areas of Hays County (23-06-0307P). | The Honorable Ruben Becerra, Hays County Judge, 111 East San Antonio Street, Suite 300, San Marcos, TX 78666. | Hays County Development Services Department, 2171 Yarrington Road, Suite 100, Kyle, TX 78640. | https://msc.fema.gov/portal/advanceSearch. | Sep. 28, 2023 | 480321
Kaufman | Unincorporated areas of Kaufman County (23-06-0527P). | The Honorable Jakie Allen, Kaufman County Judge, 1902 East U.S. Highway 175, Kaufman, TX 75142. | Kaufman County Development Services Department, 106 West Grove Street, Kaufman, TX 75142. | https://msc.fema.gov/portal/advanceSearch. | Sep. 29, 2023 | 480411
Tarrant | City of Arlington (23-06-0354P). | The Honorable Jim Ross, Mayor, City of Arlington, P.O. Box 90231, Arlington, TX 76004. | Public Works and Transportation Department, 101 West Abram Street, Arlington, TX 76004. | https://msc.fema.gov/portal/advanceSearch. | Sep. 18, 2023 | 485454
Tarrant | City of Fort Worth (23-06-0306P). | The Honorable Mattie Parker, Mayor, City of Fort Worth, 200 Texas Street, Fort Worth, TX 76102. | Transportation and Public Works Department, Engineering Vault, 200 Texas Street, Fort Worth, TX 76102. | https://msc.fema.gov/portal/advanceSearch. | Sep. 18, 2023 | 480596
Tarrant | City of Fort Worth (23-06-0361P). | The Honorable Mattie Parker, Mayor, City of Fort Worth, 200 Texas Street, Fort Worth, TX 76102. | Transportation and Public Works Department, Engineering Vault, 200 Texas Street, Fort Worth, TX 76102. | https://msc.fema.gov/portal/advanceSearch. | Sep. 25, 2023 | 480596
Tarrant | City of Haltom City (23-06-0193P). | The Honorable An Truong, Mayor, City of Haltom City, 5024 Broadway Avenue, Haltom City, TX 76117. | Public Works Department, 4200 Hollis Street, Haltom City, TX 76111. | https://msc.fema.gov/portal/advanceSearch. | Sep. 18, 2023 | 480599
Tarrant | Unincorporated areas of Tarrant County (23-06-0306P). | The Honorable Tim O'Hare, Tarrant County Judge, 100 East Weatherford Street, Suite 501, Fort Worth, TX 76196. | Tarrant County Administration Building, 100 East Weatherford Street, Fort Worth, TX 76196. | https://msc.fema.gov/portal/advanceSearch. | Sep. 18, 2023 | 480582
Williamson | City of Round Rock (22-06-2322P). | The Honorable Craig Morgan, Mayor, City of Round Rock, 221 East Main Street, Round Rock, TX 78664. | Utilities and Environmental Services Department, 3400 Sunrise Road, Round Rock, TX 78665. | https://msc.fema.gov/portal/advanceSearch. | Oct. 16, 2023 | 481048
Wise | City of New Fairview (23-06-0882P). | The Honorable John R. Taylor, Mayor, City of New Fairview, 999 Illinois Lane, New Fairview, TX 76078. | Public Works Department, 999 Illinois Lane, New Fairview, TX 76078. | https://msc.fema.gov/portal/advanceSearch. | Sep. 22, 2023 | 481629
Wise | Unincorporated areas of Wise County (23-06-0882P). | The Honorable J.D. Clark, Wise County Judge, 101 North Trinity Street, Decatur, TX 76234. | Wise County Public Works Department, 2901 South F.M. 51, Building 100, Decatur, TX 76234. | https://msc.fema.gov/portal/advanceSearch. | Sep. 22, 2023 | 481051
Virginia:
Independent City | City of Fairfax (22-03-1047P). | Robert A. Stalzer, City of Fairfax Manager, 10455 Armstrong Street, Room 316, Fairfax, VA 22030. | Public Works Department, 10455 Armstrong Street, Room 200, Fairfax, VA 22030. | https://msc.fema.gov/portal/advanceSearch. | Oct. 2, 2023 | 515524

[FR Doc. 2023-17346 Filed 8-11-23; 8:45 am]

BILLING CODE 9110-12-P